DEPARTMENT OF JUSTICE

Antitrust Division

Notice Pursuant to the National Cooperative Research and Production Act of 1993—Test & Diagnostics Consortium, Inc.

Notice is hereby given that, on March 1, 2000, pursuant to Section 6(a) of the National Cooperative Research and Production Act of 1993, 15 U.S.C. § 4301 et seq. (“the Act”), Test & Diagnostics Consortium, Inc. (“TDC”) has filed written notifications simultaneously with the Attorney General and the Federal Trade Commission disclosing changes in its membership status. The notifications were filed for the purpose of extending the Act's provisions limiting the recovery of antitrust plaintiffs to actual damages under specified circumstances. Specifically, Aeronautical Radio, Inc. (ARINC), Annapolis, MD; Agilent Technologies, Inc., Palo Alto, CA; DoD, Lakehurst, NJ; Lockheed Martin Corporation, Bethesda, MD; Marconi Integrated Systems, San Diego, CA; Miltope Corporation, Hope Hull, AL; Northrup Grumman Corporation, Los Angeles, CA; and Raytheon Systems Company, Lexington, MA have been added as parties to this venture.

No other changes have been made in either the membership or planned activity of the group research project. Membership in this group research project remains open, and TDC intends to file additional written notification disclosing all changes in membership.

On November 12, 1999, TDC filed its original notification pursuant to Section 6(a) of the Act. The Department of Justice published a notice in the Federal Register pursuant to Section 6(b) of the Act on June 21, 2000 (65 FR 38579).

Constance K. Robinson,
Director of Operations, Antitrust Division.

[FR Doc. 01-7767 Filed 3-28-01; 8:45 am]

BILLING CODE 4410-11-M